DEPARTMENT OF ENERGY

Federal Energy Regulatory Commission

[Docket Nos. ER03-323-000, ER03-323-001, ER03-323-002, and ER03-323-003]

Midwest Independent Transmission System Operator, Inc.; Notice of Technical Conference

May 28, 2003.

Take notice that a technical conference will be held on Thursday, June 26, 2003, at 9 a.m. in a room to be determined, at the offices of the Federal Energy Regulatory Commission, 888 First Street, NE., Washington, DC 20426.

The technical conference will address the Midwest Independent Transmission System Operator, Inc.'s Market Mitigation Measures, as proposed in its filings in the above dockets.

Further details of the conference, including the agenda, will be specified in a subsequent notice. All interested persons and Staff are permitted to attend the conference, and registration is not required.

There will be no transcript of the conference and there will be no telephone link communications. For more information about the conference, please contact Jeffrey Hitchings at (202) 502-6042 or jeffrey.hitchings@ferc.gov.

Magalie R. Salas,
Secretary.

[FR Doc. 03-13991 Filed 6-3-03; 8:45 am]

BILLING CODE 6717-01-P